DEPARTMENT OF EDUCATION

Notice of Waivers Granted Under Section 3511 of the Coronavirus Aid, Relief, and Economic Security (CARES) Act

AGENCY: Office of Career, Technical, and Adult Education, Department of Education.

ACTION: Notice.

SUMMARY: In this notice, we announce waivers that the U.S. Department of Education (Department) granted, within the last 30 days, under the CARES Act.

FOR FURTHER INFORMATION CONTACT: Hugh Reid, U.S. Department of Education, 400 Maryland Avenue SW, Room Potomac Center Plaza (PCP)-11114, Washington, DC 20202. Telephone: (202) 245-7491. Email: Hugh.Reid@ed.gov.

If you use a telecommunications device for the deaf (TDD) or a text telephone (TTY), call the Federal Relay Service (FRS), toll free, at 1-800-877-8339.

SUPPLEMENTARY INFORMATION:

Section 3511(d)(3) of the CARES Act requires the Secretary to publish, in the Federal Register and on the Department's website, a notice of the Secretary's decision to grant a waiver. The Secretary must publish this notice no later than 30 days after granting the waiver and the notice must include which waiver was granted and the reason for granting the waiver. This notice is intended to fulfill the Department's obligation to publicize its waiver decisions by identifying the waivers granted under section 3511.

The Department has approved waivers of the following requirement: Section 421(b) of the General Education Provisions Act (GEPA) to extend the period of availability of fiscal year (FY) 2018 funds for programs in which the State educational agency (SEA) participates as the eligible agency until September 30, 2021.

On April 17, 2020 the Secretary delegated authority for programs over which the Assistant Secretary for Career, Technical, and Adult Education (Assistant Secretary) has administrative authority the authority to grant waivers under the section 3511 of the CARES Act. On May 15, 2020, the Office of Career, Technical, and Adult Education (OCTAE) published a notice in the Federal Register (85 FR 29440) announcing 41 waivers that were granted to SEAs. Twenty-eight of those waivers were for State grants authorized by Title I of the Carl D. Perkins Career and Technical Education Act of 2006 (Perkins), and 13 of those waivers were for State grants authorized by Title II of the Workforce Innovation and Opportunity Act (WIOA) (i.e., the Adult Education and Family Literacy Act (AEFLA)).

In the last 30 days, OCTAE granted six waivers to SEAs.

Waiver Data

I. Extensions of the Obligation Period

A. Three waivers were granted to SEAs for State grants authorized by Title I of Perkins, and three waivers were granted to SEAs for State grants authorized by Title II of WIOA (AEFLA).

1. Provision waived: Tydings Amendment, section 421(b) of GEPA (20 U.S.C. 1225(b)).¹

¹ Section 3511(b) of the CARES Act only authorizes the Secretary to grant waivers requested by SEAs of the Tydings Amendment, section 421(b) of GEPA, to extend the period of availability of State formula grant funds authorized by Perkins and AEFLA. The Department currently does not have the authority to grant a waiver of the Tydings Amendment with respect to Perkins or AEFLA to States in which the SEA is not the grantee for these State-administered programs.

Reasons: These waivers were granted under section 421(b) of GEPA to extend the period of availability of FY 2018 funds until September 30, 2021, pursuant to the 2018 Consolidated Appropriations Act (GEPA section 421(b) waivers). It is not possible to obligate funds on a timely basis, as originally planned, due to extensive school and program disruptions in the States. These disruptions are in response to extraordinary circumstances for which a national emergency related to the COVID-19 pandemic has been duly declared by the President of the United States under section 501(b) of the Robert T. Stafford Disaster Relief and Emergency Assistance Act, 42 U.S.C. 5121-5207, and will protect the health and safety of students, staff, and our communities.

Waiver Applicants: The SEA GEPA section 421(b) waiver applicants provided assurance that the SEA will: (1) Use, and ensure that its subgrantees will use, funds under the respective programs in accordance with the provisions of all applicable statutes, regulations, program plans, and applications not subject to these waivers; (2) work to mitigate, and ensure that its subgrantees will work to mitigate, any negative effects that may occur as a result of the requested waiver; and (3) provide the public and all subgrantees in the State with notice of, and the opportunity to comment on, this request by posting information regarding the waiver request and the process for commenting on the State website.

The Assistant Secretary reviewed the SEAs' requests for a GEPA section 421(b) waiver and determined that the following SEAs met the requirements for a GEPA section 421(b) waiver on the dates indicated below:

(1) State grants authorized by Title I of Perkins:

• California Board of Education, May 18, 2020;

• Maryland State Department of Education, June 4, 2020; and

• Wyoming Board of Education, May 21, 2020.

(2) State grants authorized by Title II of WIOA (AEFLA):

• Arizona State Board of Education, May 28, 2020;

• California Board of Education, May 18, 2020; and

• Hawaii State Board of Education, May 19, 2020.

The Assistant Secretary also announced the waiver decisions at: https://www2.ed.gov/about/offices/list/ovae/pi/covid19/index.html.

Accessible Format: Individuals with disabilities can obtain this document and a copy of the application package in an accessible format (e.g., braille, large print, audiotape, or compact disc) on request to the program contact person listed under FOR FURTHER INFORMATION CONTACT.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Scott Stump,
Assistant Secretary for Career, Technical, and Adult Education.

[FR Doc. 2020-12794 Filed 6-12-20; 8:45 am]

BILLING CODE 4000-01-P